ENVIRONMENTAL PROTECTION AGENCY

40 CFR Parts 63

[PA001-1002; FRL-7135-4]

Approval of Section 112(l) Authority for Hazardous Air Pollutants and the Chemical Accident Prevention Provisions; Allegheny County; Health Department

AGENCY: Environmental Protection Agency (EPA).

ACTION: Proposed rule.

SUMMARY: EPA is proposing to approve Allegheny County Health Department's (ACHD's) request for delegation of authority to implement and enforce its hazardous air pollutant and accidental release prevention regulations which have been adopted by reference from the Federal requirements set forth in the Code of Federal Regulations. This proposed approval will automatically delegate future amendments to these regulations. For sources which are required to obtain a Clean Air Act operating permit, this proposed delegation addresses all existing hazardous air pollutant regulations. For sources which are not required to obtain a Clean Air Act operating permit, this proposed delegation presently addresses the hazardous air pollutant regulations for perchloroethylene drycleaning facilities, hard and decorative chromium electroplating and chromium anodizing tanks, ethylene oxide sterilization facilities, halogenated solvent cleaning, secondary lead smelting, hazardous waste combustors, portland cement manufacturing, and secondary aluminum smelting. This proposed delegation addresses all sources subject to the accidental release prevention regulations. In addition, EPA is proposing to automatically delegate all future hazardous air pollutant regulations which ACHD adopts unchanged from the Federal requirements. EPA is not waiving its notification and reporting requirements under this proposed approval; therefore, sources will need to send notifications and reports to both ACHD and EPA. This action pertains to affected sources, as defined by the Clean Air Act's hazardous air pollutant program, and covered processes, as defined by the Clean Air Act's chemical accident prevention provisions. EPA is taking this action in accordance with the Clean Air Act. In the Final Rules section of this Federal Register, EPA is approving ACHD's request for delegation of authority as a direct final rule without prior proposal because the Agency views this as a noncontroversial submittal and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period. Any parties interested in commenting on this action should do so at this time.

DATES: Written comments must be received on or before March 1, 2002.

ADDRESSES: Written comments on this action should be sent concurrently to: Makeba A. Morris, Chief, Permits and Technical Assessment Branch, Mail Code 3AP11, Air Protection Division, U.S. Environmental Protection Agency, Region III, 1650 Arch Street, Philadelphia, PA 19103-2029, and Roger C. Westman, Manager, Air Quality Program, Allegheny County Health Department, 301 39th Street, Pittsburgh, PA 15201-8103. Copies of the documents relevant to this action are available for public inspection during normal business hours at the Air Protection Division, U.S. Environmental Protection Agency, Region III, 1650 Arch Street, Philadelphia, Pennsylvania 19103 and Allegheny County Health Department, 301 39th Street, Pittsburgh, PA 15201-8103.

FOR FURTHER INFORMATION CONTACT: Dianne J. McNally, 215-814-3297, at the EPA Region III address above, or by e-mail at mcnally.dianne@epa.gov. Please note that any formal comments must be submitted, in writing, as provided in the ADDRESSES section of this document.

SUPPLEMENTARY INFORMATION: For further information on this action, pertaining to approval of ACHD's delegation of authority for all hazardous air pollutant emission standards, as they apply to facilities required to obtain a Clean Air Act operating permit; the hazardous air pollutant emission standards for perchloroethylene drycleaning facilities, hard and decorative chromium electroplating and chromium anodizing tanks, ethylene oxide sterilization facilities, halogenated solvent cleaning, secondary lead smelting, hazardous waste combustors, portland cement manufacturing, and secondary aluminum smelting, as they apply to facilities not required to obtain a Clean Air Act operating permit; and, the chemical accident prevention provisions, as they apply to all facilities (Clean Air Act section 112), please see the information provided in the direct final action, with the same title, that is located in the “Rules and Regulations” section of this Federal Register publication.

Dated: January 22, 2002.
Judith M. Katz,
Director, Air Protection Division, Region III.

[FR Doc. 02-2229 Filed 1-29-02; 8:45 am]

BILLING CODE 6560-50-U